DEPARTMENT OF LABOR

Employment and Training Administration

[TA-W-56,701]

Twigs & Ivy Boutique, Potosi, MO; Negative Determination Regarding Application for Reconsideration

By application of April 14, 2005, a petitioner requested administrative reconsideration of the Department's negative determination regarding eligibility for workers and former workers of the subject firm to apply for Trade Adjustment Assistance (TAA). The denial notice was signed on May 2, 2005, (70 FR 22710).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition, which was filed on behalf of workers at Twigs & Ivy Boutique, Potosi, Missouri engaged in the production of floral arrangements, was denied based on the findings that during the relevant time period, the subject company did not separate or threaten to separate a significant number or proportion of workers, as required by Section 222 of the Trade Act of 1974.

In the request for reconsideration, the petitioner alleges that there was an additional employee of Twigs & Ivy Boutique who was mistakenly omitted from the employment list originally submitted to the Department by the company official.

This alleged employee was contacted by the Department to confirm the above statement. The employee stated that she worked for Twigs & Ivy Boutique, Potosi, Missouri in 2002.

When assessing eligibility for TAA, the Department exclusively considers the relevant employment data for the facility where the petitioning worker group was employed. The relevant period represents four quarters back from the date of the petition, thus data from 2002 is irrelevant in this investigation. As fewer than three workers were impacted at the subject firm during the relevant time period, employment threshold requirement as outlined in Section 222 of the Trade Act of 1974 was not met.

Conclusion

After review of the application and investigative findings, I conclude that there has been no error or misinterpretation of the law or of the facts which would justify reconsideration of the Department of Labor's prior decision. Accordingly, the application is denied.

Signed at Washington, DC, this 27th day of May, 2005.
Elliott S. Kushner,
Certifying Officer, Division of Trade Adjustment Assistance.

[FR Doc. E5-3030 Filed 6-10-05; 8:45 am]

BILLING CODE 4510-30-P